DEPARTMENT OF TRANSPORTATION

Pipeline and Hazardous Materials Safety Administration

[Docket No. PHMSA-2013-0015]

Pipeline Safety: Accident and Incident Notification Time Limit

AGENCY: Pipeline and Hazardous Materials Safety Administration (PHMSA); DOT.

ACTION: Notice; Issuance of Advisory Bulletin.

SUMMARY: Owners and operators of gas and hazardous liquid pipeline systems and liquefied natural gas (LNG) facilities are already required to provide telephonic reports of pipeline incidents and accidents to the National Response Center (NRC) promptly, accurately, and fully communicate the estimated extent of the damages. PHMSA is issuing this advisory bulletin to notify the owners and operators that, as required by the Pipeline Safety, Regulatory Certainty, and Job Creation Act of 2011, the agency will issue a proposed rule to revise telephonic reporting regulations to establish specific time limits for telephonic or electronic notice of accidents and incidents involving pipeline facilities to the NRC.

FOR FURTHER INFORMATION CONTACT: Cameron Satterthwaite by phone at 202-366-1319 or by email at cameron.satterthwaite@dot.gov. Information about PHMSA may be found at http://phmsa.dot.gov.

SUPPLEMENTARY INFORMATION:

Background

On January 3, 2012, President Obama signed into law the Pipeline Safety, Regulatory Certainty, and Job Creation Act of 2011 (Pub. L. 112-90). Section 9 of the Act requires PHMSA to require a specific time limit for telephonic or electronic reporting of pipeline accidents and incidents. Specifically, Section 9 of the Act states:

SEC. 9. ACCIDENT AND INCIDENT NOTIFICATION.

(a) REVISION OF REGULATIONS.—Not later than 18 months after the date of enactment of this Act, the Secretary of Transportation shall revise regulations issued under sections 191.5 and 195.52 of title 49, Code of Federal Regulations, to establish specific time limits for telephonic or electronic notice of accidents and incidents involving pipeline facilities to the Secretary and the National Response Center.

(b) MINIMUM REQUIREMENTS.—In revising the regulations, the Secretary, at a minimum, shall—

(1) Establish time limits for telephonic or electronic notification of an accident or incident to require such notification at the earliest practicable moment following confirmed discovery of an accident or incident and not later than 1 hour following the time of such confirmed discovery;

(2) Review procedures for owners and operators of pipeline facilities and the National Response Center to provide thorough and coordinated notification to all relevant State and local emergency response officials, including 911 emergency call centers, for the jurisdictions in which those pipeline facilities are located in the event of an accident or incident, and revise such procedures as appropriate; and

(3) Require such owners and operators to revise their initial telephonic or electronic notice to the Secretary and the National Response Center with an estimate of the amount of the product released, an estimate of the number of fatalities and injuries, if any, and any other information determined appropriate by the Secretary within 48 hours of the accident or incident, to the extent practicable.

(c) UPDATING OF REPORTS.—After receiving revisions described in subsection (b)(3), the National Response Center shall update the initial report on an accident or incident instead of generating a new report.

Currently, PHMSA requires pipeline owners and operators to notify the NRC by telephone or electronically at the earliest practicable moment following discovery (§§ 191.5 and 195.52). In a September 6, 2002, (67 FR 57060) advisory bulletin, PHMSA advised owners and operators of gas and hazardous liquids pipeline systems and LNG facilities that, “at the earliest practicable opportunity,” usually means one-to-two hours after discovery of the incident.

Advisory Bulletin (ADB-2013-01)

To: Owners and Operators of Gas and Hazardous Liquids Pipeline Systems and LNG Facilities

Subject: Telephonic Notification Time Limit to NRC.

Purpose: To advise owners and operators of gas and hazardous liquids pipeline systems and LNG facilities that they should contact the NRC within one hour of discovery of a pipeline incident and should also file additional telephonic reports if there are significant changes in the number of fatalities or injuries, product release estimates or the extent of damages.

Advisory: Owners and operators of gas and hazardous liquid pipelines and LNG facilities are reminded that the pipeline safety regulations already require operators to make a telephonic report of an incident to the NRC in Washington, DC at the earliest practicable opportunity (usually one-to-two hours after discovering the incident). However, under Section 9(b)(1) of the Pipeline Safety, Regulatory Certainty, and Job Creation Act of 2011, PHMSA is required to issue regulations requiring owners and operators to notify the NRC within one hour of discovery of a pipeline accident or incident. The 2011 Act requires PHMSA to establish a time limit for telephonic or electronic notification of an accident or incident to require such notification at the earliest practicable moment following confirmed discovery of an accident or incident that is not later than one hour following the time of such confirmed discovery. PHMSA will issue a proposed rule at a later date, but encourages owners and operators of the gas and hazardous liquids pipeline systems and LNG facilities, as a practice, to report such accidents and incidents within one hour of confirmed discovery. The information required to be reported includes the name of the operator, the name and telephone number of the person making the report, the location of the incident, the number of fatalities and injuries, and all other significant facts that are relevant to the cause of the incident or extent of the damages.

Issued in Washington, DC, on January 25, 2013.
Alan K. Mayberry,
Deputy Associate Administrator Field Operations.

[FR Doc. 2013-01958 Filed 1-29-13; 8:45 am]

BILLING CODE 4910-60-P